DEPARTMENT OF HEALTH AND HUMAN SERVICES

National Institutes of Health

Submission for OMB Review; 30-Day Comment Request Evaluation of the NIH Academic Research Enhancement Award (NIH OD)

SUMMARY: Under the provisions of Section 3507(a)(1)(D) of the Paperwork Reduction Act of 1995, the National Institutes of Health (NIH), has submitted to the Office of Management and Budget (OMB) a request for review and approval of the information collection listed below. This proposed information collection was previously published in the Federal Register on July 9, 2014, Vol. 79, page 38921, and allowed 60-days for public comment. No public comments were received during the 60-day period. The purpose of this notice is to allow an additional 30 days for public comment. The Office of the Director (OD), National Institutes of Health, may not conduct or sponsor, and the respondent is not required to respond to, an information collection that has been extended, revised, or implemented on or after October 1, 1995, unless it displays a currently valid OMB control number.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

DATES: Comment Due Date: Comments regarding this information collection are best assured of having their full effect if received within 30-days of the date of this publication.

FOR FURTHER INFORMATION CONTACT: To obtain a copy of the data collection plans and instruments or request more information on the proposed project, contact Michelle M. Timmerman, Ph.D., Director, AREA Program, Office of the Director, National Institutes of Health, 6705 Rockledge Drive, Bethesda, Maryland 20892 or call non-toll-free number 301-402-0672, or email your request, including your address to michelle.timmerman@mail.nih.gov. Formal requests for additional plans and instruments must be requested in writing.

Proposed Collection: Evaluation of the NIH Academic Research Enhancement Award, 0925, NEW submission, Office of the Director (OD), National Institutes of Health (NIH).

Need and Use of Information Collection: The Academic Research Enhancement Award (AREA) Program is a grant mechanism spanning most of the Institutes and Centers (ICs) of the National Institutes of Health (NIH). The AREA program was established by Congress in 1985 to provide support to scientists at public and private colleges and universities that receive relatively small amounts of NIH funding. The purpose of the program is to support meritorious research, expose undergraduate and graduate students to research, and strengthen the research environment of the institutions receiving the grants. In the past three years alone, the federal government has awarded approximately 78 million dollars annually in AREA grants. The evaluation will allow NIH and Congress to assess the extent to which the AREA program is meeting its goals and make recommendations so that this significant investment of public funds may be used as effectively as possible.

The evaluation will utilize the NIH's archived data on grants, institutions, Principal Investigators (PIs) and students funded with AREA monies. The evaluation will collect new data about (1) the quantity and quality of student participation in AREA projects, (2) records of PIs' subsequent funding histories, (3) applicants' experiences with the application process, (4) PIs' experiences implementing AREA Program objectives, and (5) the impact of AREA Program research participation on student career paths and outcomes.

The results of the evaluation will indicate the extent to which the AREA Program is meeting its goals of supporting meritorious research, strengthening the research environment at institutions of higher education that are not research intensive, and recruiting and training subsequent generations of the United States' biomedical scientist workforce. Intended audiences include the United States Congress, staff at NIH's Institutes and Centers which make AREA awards, and staff at NIH's Office of the Director.

OMB approval is requested for one year. There are no costs to respondents other than their time. The total estimated annualized burden hours are 458.

Estimates of Annualized Burden Hours
Type of respondents | Number of respondents | Number of responses per respondent | Average burden per response (in hours) | Total annual burden hours
Web Survey—Awardees | 480 | 1 | 30 | 240
Interviews—Awardees | 50 | 1 | 45 | 38
Web Survey—Students | 301 | 1 | 20 | 100
Web Survey—Applicants | 240 | 1 | 20 | 80
Totals | 1,021 |  | 458

Dated: December 3, 2014.
Lawrence A. Tabak,
Principal Deputy Director, NIH.

[FR Doc. 2014-29294 Filed 12-12-14; 8:45 am]

BILLING CODE 4140-01-P